DEPARTMENT OF ENERGY

Federal Energy Regulatory Commission

Combined Notice of Filings #1

Take notice that the Commission received the following exempt wholesale generator filings:

Docket Numbers: EG14-45-000.

Applicants: Grandview Wind Farm, LLC.

Description: Notice of Self-Certification of Exempt Wholesale Generator Status of Grandview Wind Farm, LLC.

Filed Date: 4/28/14.

Accession Number: 20140428-5273.

Comments Due: 5 p.m. ET 5/19/14.

Take notice that the Commission received the following electric rate filings:

Docket Numbers: ER10-1910-005; ER10-1908-005; ER10-1909-005; ER10-1911-005; ER10-1533-006; ER12-674-003; ER12-670-003.

Applicants: Duquesne Conemaugh LLC, Duquesne Keystone LLC, Duquesne Light Company, Duquesne Power, LLC, Macquarie Energy LLC, Rhode Island Engine Genco, LLC, Rhode Island LFG Genco, LLC.

Description: Amendment to December 31, 2013 Triennial Market Power Update for Northeast Region of Duquesne Light Company, et al.

Filed Date: 4/25/14.

Accession Number: 20140425-5211.

Comments Due: 5 p.m. ET 5/16/14.

Docket Numbers: ER14-1378-002.

Applicants: PJM Interconnection, L.L.C.

Description: Errata to Resubmit Original Service Agreement No. 3746 to be effective 4/1/2014.

Filed Date: 4/28/14.

Accession Number: 20140428-5227.

Comments Due: 5 p.m. ET 5/19/14.

Docket Numbers: ER14-1777-000.

Applicants: Wheelabrator Falls Inc.

Description: MBR Application to be effective 5/25/2014.

Filed Date: 4/25/14.

Accession Number: 20140425-5241.

Comments Due: 5 p.m. ET 5/16/14

Docket Numbers: ER14-1778-000.

Applicants: SunPower Corporation, Systems.

Description: SunPower Corporation, Systems Notice of Cancellation to be effective 4/26/2014.

Filed Date: 4/25/14.

Accession Number: 20140425-5311.

Comments Due: 5 p.m. ET 5/16/14.

Docket Numbers: ER14-1779-000.

Applicants: Southwest Power Pool, Inc.

Description: 2824R1 KMEA & Sunflower Meter Agent Agreement to be effective 4/1/2014.

Filed Date: 4/28/14.

Accession Number: 20140428-5079.

Comments Due: 5 p.m. ET 5/19/14.

Docket Numbers: ER14-1780-000.

Applicants: Southwest Power Pool, Inc.

Description: 2825R1 KMEA and Westar Energy Meter Agent Agreement to be effective 4/1/2014.

Filed Date: 4/28/14.

Accession Number: 20140428-5138.

Comments Due: 5 p.m. ET 5/19/14.

Docket Numbers: ER14-1781-000.

Applicants: PJM Interconnection, L.L.C.

Description: Original Service Agreement No. 3808; Queue No. NQ89 to be effective 5/6/2017.

Filed Date: 4/28/14.

Accession Number: 20140428-5199.

Comments Due: 5 p.m. ET 5/19/14.

Docket Numbers: ER14-1783-000.

Applicants: Southwestern Public Service Company.

Description: 2014-4-28_SPS-TCEC-GSEC-Aggie-CA—665-0.0.0 to be effective 4/29/2014.

Filed Date: 4/28/14.

Accession Number: 20140428-5208.

Comments Due: 5 p.m. ET 5/19/14.

Docket Numbers: ER14-1784-000.

Applicants: Southwest Power Pool, Inc.

Description: Notice of cancellation of Designee Qualification and Novation Agreement (SA 1873) of Southwest Power Pool, Inc.

Filed Date: 4/28/14.

Accession Number: 20140428-5211.

Comments Due: 5 p.m. ET 5/19/14.

Docket Numbers: ER14-1785-000.

Applicants: PJM Interconnection, L.L.C.

Description: Second Revised Service Agreement No. 2442; Queue No. Y1-066 to be effective 3/28/2014.

Filed Date: 4/28/14.

Accession Number: 20140428-5236.

Comments Due: 5 p.m. ET 5/19/14.

Take notice that the Commission received the following electric securities filings:

Docket Numbers: ES14-39-000.

Applicants: MidAmerican Energy Company.

Description: Application of MidAmerican Energy Company under Section 204 of the Federal Power Act for Authorization to Issue and Sell Debt Securities.

Filed Date: 4/25/14.

Accession Number: 20140425-5323.

Comments Due: 5 p.m. ET 5/16/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2014.
Nathaniel J. Davis, Sr.,
Deputy Secretary.

[FR Doc. 2014-10266 Filed 5-5-14; 8:45 am]

BILLING CODE 6717-01-P